DEPARTMENT OF TRANSPORTATION

Federal Aviation Administration

14 CFR Part 39

[Docket No. FAA-2010-0056; Directorate Identifier 2009-CE-051-AD]

RIN 2120-AA64

Airworthiness Directives; British Aerospace Regional Aircraft Model HP.137 Jetstream Mk.1, Jetstream Series 200, Jetstream Series 3101, and Jetstream Model 3201 Airplanes

AGENCY: Federal Aviation Administration (FAA), Department of Transportation (DOT).

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as: Cracks have been found in the NLG steering jack piston rod adjacent to the eye-end. This was caused by excessive torque which had been applied to the eye-end during assembly of the unit. Severe cracking, if not detected and corrected, can cause the jack to fail during operation, which may lead to loss of directional control of the aeroplane during critical phases of take-off and landing. The proposed AD would require actions that are intended to address the unsafe condition described in the MCAI.

DATES: We must receive comments on this proposed AD by March 8, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Taylor Martin, Aerospace Engineer, FAA, Small Airplane Directorate, 901 Locust, Room 301, Kansas City, Missouri 64106; telephone: (816) 329-4138; fax: (816) 329-4090.

SUPPLEMENTARY INFORMATION:

Comments Invited

We invite you to send any written relevant data, views, or arguments about this proposed AD. Send your comments to an address listed under the ADDRESSES section. Include “Docket No. FAA-2010-0056; Directorate Identifier 2009-CE-051-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On May 9, 2007, we issued AD 2007-10-14, Amendment 39-15055 (72 FR 28587, May 22, 2007). That AD required actions intended to address an unsafe condition on the products listed above.

Since we issued AD 2007-10-14, the manufacturer revised the service information to exclude those airplanes from the applicability that have the modified steering jack assembly installed in accordance with BAE modification JM5414.

The European Aviation Safety Agency (EASA), which is the Technical Agent for the Member States of the European Community, has issued AD No.: 2009-0135, dated June 23, 2009 (referred to after this as “the MCAI”), to correct an unsafe condition for the specified products. The MCAI states:

Cracks have been found in the NLG steering jack piston rod adjacent to the eye-end. This was caused by excessive torque which had been applied to the eye-end during assembly of the unit. Severe cracking, if not detected and corrected, can cause the jack to fail during operation, which may lead to loss of directional control of the aeroplane during critical phases of take-off and landing.

To address this unsafe condition, the UK CAA issued AD 003-11-2002 (which references BAE Systems Service Bulletin (SB) 32-JA020741), requiring an inspection for cracks and a measurement of the release torque of the piston rod end fitting to determine a new safe life (remaining fatigue life) for individual units. The revised safe life was calculated in accordance with the formula provided in associated APPH Ltd (the NLG Jack manufacturer) SB 32-76.

Following the completion of testing, APPH determined that the remaining fatigue life needed further reduction and published inspection criteria and a revised formula for calculating the piston safe life. This calculation and a revised end fitting tightening torque are contained in APPH SB 32-76 Revision 1. As a result, pistons which were previously calculated to have significant remaining life could possibly be unserviceable.

In response to this development, BAE Systems issued SB 32-JA030644 so that a revised calculation could be performed to establish the safe life of NLG steering jack pistons. Where not previously accomplished, the SB also recognised the need to inspect the piston for cracking and to measure the torque loading of the piston to eye-end joint so that safe life calculation could be performed. This SB superseded the earlier SB 32-JA020741 that produced an overly optimistic assessment of the component's safe life. The CAA UK issued AD G-2004-0029, superseding AD 003-11-2002, to require the accomplishment of these corrective actions.

Subsequent to the original issue of BAE Systems SB 32-JA030644, APPH introduced a modified unit (optionally installed on aeroplanes by application of BAE Systems SB 32-JM5414) that incorporates a strengthened piston with a defined safe life. This safe life is not calculated in accordance with the instructions of BAE Systems SB 32-JA030644, but is already declared in BAE Systems SB 32-JA981042, currently at revision 7. In response to requests for clarification, BAE Systems has revised SB 32-JA030644 to exclude those aeroplanes from the `Effectivity' that have the modified steering jack assembly installed in accordance with BAE modification JM5414.

For the reasons described above, this new AD retains the requirements of UK CAA AD G-2004-0029, which is superseded, and confirms that for aeroplanes incorporating BAE modification JM5414, no further action is required.

You may obtain further information by examining the MCAI in the AD docket.

Relevant Service Information

BAE Systems (Operations) Limited has issued British Aerospace Jetstream Series 3100 & 3200 Service Bulletin No. 32-JA020741, dated November 2, 2002; British Aerospace Jetstream Series 3100 & 3200 Service Bulletin No. 32-JA030644, Revision No. 1 dated August 19, 2008; and British Aerospace Jetstream Series 3100 & 3200 Service Bulletin No. 32-JM5414, dated August 6, 2004. APPH Ltd. has issued Service Bulletin 32-76, Revision 1, dated August 2003; and Service Bulletin 32-77, dated January 2004. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Differences Between This Proposed AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

We estimate that this proposed AD will affect 190 products of U.S. registry. We also estimate that it would take about 2 work-hours per product to comply with the basic requirements of this proposed AD. The average labor rate is $85 per work-hour.

Based on these figures, we estimate the cost of the proposed AD on U.S. operators to be $32,300, or $170 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15055 (72 FR 28587; May 22, 2007), and adding the following new AD:

British Aerospace Regional Aircraft: Docket No. FAA-2010-0056; Directorate Identifier 2009-CE-051-AD.

Comments Due Date

(a) We must receive comments by March 8, 2010.

Affected ADs

(b) This AD supersedes AD 2007-10-14, Amendment 39-15055.

Applicability

(c) This AD applies to Model HP.137 Jetstream Mk.1, Jetstream Series 200, Jetstream Series 3101, and Jetstream Model 3201 airplanes, all serial numbers, that are:

(1) Equipped with steering jack part number (P/N) 6182-2, P/N 6182-3, or P/N 6182-4; and

(2) Certificated in any category.

Subject

(d) Air Transport Association of America (ATA) Code 32: Landing Gear.

Reason

(e) The mandatory continuing airworthiness information (MCAI) states:

Cracks have been found in the NLG steering jack piston rod adjacent to the eye-end. This was caused by excessive torque which had been applied to the eye-end during assembly of the unit. Severe cracking, if not detected and corrected, can cause the jack to fail during operation, which may lead to loss of directional control of the aeroplane during critical phases of take-off and landing.

To address this unsafe condition, the UK CAA issued AD 003-11-2002 (which references BAE Systems Service Bulletin (SB) 32-JA020741), requiring an inspection for cracks and a measurement of the release torque of the piston rod end fitting to determine a new safe life (remaining fatigue life) for individual units. The revised safe life was calculated in accordance with the formula provided in associated APPH Ltd (the NLG Jack manufacturer) SB 32-76.

Following the completion of testing, APPH determined that the remaining fatigue life needed further reduction and published inspection criteria and a revised formula for calculating the piston safe life. This calculation and a revised end fitting tightening torque are contained in APPH SB 32-76 Revision 1. As a result, pistons which were previously calculated to have significant remaining life could possibly be unserviceable.

In response to this development, BAE Systems issued SB 32-JA030644 so that a revised calculation could be performed to establish the safe life of NLG steering jack pistons. Where not previously accomplished, the SB also recognised the need to inspect the piston for cracking and to measure the torque loading of the piston to eye-end joint so that safe life calculation could be performed. This SB superseded the earlier SB 32-JA020741 that produced an overly optimistic assessment of the component's safe life. The CAA UK issued AD G-2004-0029, superseding AD 003-11-2002, to require the accomplishment of these corrective actions.

Subsequent to the original issue of BAE Systems SB 32-JA030644, APPH introduced a modified unit (optionally installed on aeroplanes by application of BAE Systems SB 32-JM5414) that incorporates a strengthened piston with a defined safe life. This safe life is not calculated in accordance with the instructions of BAE Systems SB 32-JA030644, but is already declared in BAE Systems SB 32-JA981042, currently at revision 7. In response to requests for clarification, BAE Systems has revised SB 32-JA030644 to exclude those aeroplanes from the `Effectivity' that have the modified steering jack assembly installed in accordance with BAE modification JM5414.

For the reasons described above, this new AD retains the requirements of UK CAA AD G-2004-0029, which is superseded, and confirms that for aeroplanes incorporating BAE modification JM5414, no further action is required.

Actions and Compliance

(f) Unless already done, do the following actions.

(1) For airplanes where British Aerospace Jetstream Series 3100 & 3200 Service Bulletin No. 32-JA020741, dated November 2, 2002 (APPH Ltd. Service Bulletin 32-76, Revision 1, dated August 2003) has not been previously accomplished:

(i) Within 2 months after June 26, 2007 (the effective date retained from AD 2007-10-14), inspect the steering jack piston rod, check the torque of the end fitting, and determine the safe life of the steering jack piston rod in accordance with paragraph 2, Part 1 of British Aerospace Jetstream Series 3100 & 3200 Service Bulletin No. 32-JA030644, Revision No. 1, dated August 19, 2008; or BAE Systems British Aerospace Jetstream Series 3100 & 3200 Service Bulletin 32-JA030644, Original Issue: October 6, 2003.

(ii) If the piston rod is found cracked or unserviceable during the inspection as required by paragraph (f)(1)(i) of this AD, before next flight, remove the steering jack and replace it with a serviceable unit.

(2) For airplanes on which BAE British Aerospace Jetstream Series 3100 & 3200 Service Bulletin No. 32-JA020741, dated November 2, 2002 (APPH Ltd. Service Bulletin 32-76, Revision 1, dated August 2003) has previously been accomplished:

(i) Within 3 months after June 26, 2007 (the effective date of AD 2007-10-14), recalculate the safe life of the steering jack piston rod and re-torque the piston rod eye-end in accordance with paragraph 2, Part 2 of British Aerospace Jetstream Series 3100 & 3200 Service Bulletin No. 32-JA030644, Revision No. 1, dated August 19, 2008; or BAE Systems British Aerospace Jetstream Series 3100 & 3200 Service Bulletin 32-JA030644, Original Issue: October 6, 2003.

(ii) If the piston rod is found unserviceable during the inspection as required by paragraph (f)(2)(i) of this AD, before next flight, remove the steering jack and replace it with a serviceable unit.

(3) For airplanes equipped with steering jack part number (P/N) 6182-2, P/N 6182-3, or P/N 6182-4 incorporating Strike-off 4, installed by BAE Systems modification JM5414 (refer to British Aerospace Jetstream Series 3100 & 3200 Service Bulletin No. 32-JM5414, dated August 6, 2004; and APPH Ltd. Bulletin 32-77, dated January 2004): The actions specified in paragraph (f)(1)(i) or (f)(1)(ii) of this AD are not required.

(4) For all airplanes: After June 26, 2007 (the effective date of AD 2007-10-14), do not install a steering jack piston rod with P/N 6182-2, P/N 6182-3, or P/N 6182-4, unless it has been inspected and the safe life determined in accordance with paragraph 2 of British Aerospace Jetstream Series 3100 & 3200 Service Bulletin No. 32-JA030644, Revision No. 1, dated August 19, 2008.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) AD No.: 2009-0135, dated June 23, 2009; British Aerospace Jetstream Series 3100 & 3200 Service Bulletin No. 32-JA020741, dated November 2, 2002; British Aerospace Jetstream Series 3100 & 3200 Service Bulletin No. 32-JA030644, Revision No. 1 dated August 19, 2008; British Aerospace Jetstream Series 3100 & 3200 Service Bulletin No. 32-JM5414, dated August 6, 2004. APPH Ltd. Service Bulletin 32-76, Revision 1, dated August 2003; and APPH Ltd. Service Bulletin 32-77, dated January 2004, for related information.

Issued in Kansas City, Missouri on January 13, 2010.
Kim Smith,
Manager, Small Airplane Directorate, Aircraft Certification Service.

[FR Doc. 2010-1086 Filed 1-20-10; 8:45 am]

BILLING CODE 4910-13-P